ENVIRONMENTAL PROTECTION AGENCY

[EPA-HQ-OPP-2017-0007; FRL-9970-48]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before January 25, 2018.

ADDRESSES: Submit your comments, identified by the Docket Identification (ID) Number and the File Symbol of interest as show in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), main telephone number: (703) 305-7090; email address: BPPDFRNotices@epa.gov., Michael Goodis, Registration Division (7505P), main telephone number: (703) 305-7090; email address: RDFRNotices@epa.gov. The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

III. New Active Ingredients

1. File Symbol: 264-RROU, 264-RROE, 264-RROG, 432-RLOE, 432-RLOL, 432-RLOR, 432-RLOU, 279-GAEG, 279-GAEL, 279-GAEU. Docket ID number: EPA-HQ-OPP-2017-0233. Applicant: Bayer CropScience, 2 T.W. Alexander Drive, Research Triangle Park, NC 27709; FMC Corporation, 2929 Walnut Street, Philadelphia, PA 19104. Product name: Tetraniliprole Technical, Tetraniliprole ST 480FS, Tetraniliprole SC 200 Insecticide ML, Tetraniliprole 200 SC Insecticide B, Tetraniliprole 200 SC Insecticide A, Tetraniliprole 43 SC Insecticide B, Tetraniliprole 43 SC Insecticide A, F4260-1 Insecticide, F4260-7 Insecticide, F4260-3 Insecticide. Active ingredient: Tetraniliprole at 96.77%, 45.1%, 18.18%, 18.18%, 18.18%, 4.07%, 4.07%, 18.18%, 19.75%, 4.41%. Proposed use: Tuberous and corm vegetables, crop group 1C; leafy vegetables, crop group 4-16; brassica head and stem vegetables, crop group 5-16; fruiting vegetables, crop group 8-10 (including okra); citrus crop group 10-10; pome fruit, crop group 11-10; stone fruit, crop group 12-12; small fruit, vine climbing subgroup, except fuzzy kiwi, crop subgroup 13-07F; tobacco; tree nuts, crop group 14-12; corn, field, grain; corn, field, forage; corn, pop, grain; corn, sweet, forage; corn, seed treatment; cottonseed, crop group 20C; soybean seed; soybean hulls; soybean forage; turf, sod farms, golf courses. Contact: RD.

2. File Symbol: 92554-R. Docket ID number: EPA-HQ-OPP-2017-0527. Applicant: De Ceuster Meststoffen NV, Fortsesteenweg 30, 2860 Sint-Katelijne-Waver, Belgium (in care of Technology Sciences Group Inc., 1150 18th St. NW, Suite 1000, Washington DC 20036). Product name: PMV-01. Active ingredient: Microbial pesticide—Pepino mosaic virus, strain CH2, isolate 1906 at 0.0001%. Proposed use: Greenhouse tomatoes. Contact: BPPD.

3. File Symbol: 92918-E. Docket ID number: EPA-HQ-OPP-2017-0492. Applicant: Otsuka Pharmaceutical Co., Ltd., 2-9 Kanda-Tsukasamachi, Chiyoda-ku, Tokyo, 101-8535, Japan (in care of Technology Sciences Group Inc., 712 Fifth St., Suite A, Davis, CA 95618). Product name: OPC-721. Active ingredient: Bactericide—Bacteriophages active against Xylella fastidiosa at 0.00028%. Proposed use: For manufacturing use. Contact: BPPD.

4. File Symbol: 92918-R. Docket ID number: EPA-HQ-OPP-2017-0492. Applicant: Otsuka Pharmaceutical Co., Ltd., 2-9 Kanda-Tsukasamachi, Chiyoda-ku, Tokyo, 101-8535, Japan (in care of Technology Sciences Group Inc., 712 Fifth St., Suite A, Davis, CA 95618). Product name: OPC-821. Active ingredient: Bactericide—Bacteriophages active against Xylella fastidiosa at 0.00028%. Proposed use: For use on grapevines to control Pierce's Disease. Contact: BPPD.

5. File Symbol: 92983-E. Docket ID number: EPA-HQ-OPP-2017-0489. Applicant: Suntton International Inc., 901 H St., Suite 610, Sacramento, CA 95814. Product name: Sunergist EBR. Active ingredient: Plant regulator—24-epibrassinolide at 0.01%. Proposed use: For use on all agricultural commodities. Contact: BPPD.

6. File Symbol: 92983-R. Docket ID number: EPA-HQ-OPP-2017-0489. Applicant: Suntton International Inc., 901 H St., Suite 610, Sacramento, CA 95814. Product name: 24-Epibrassinolide TGAI. Active ingredient: Plant regulator—24-epibrassinolide at 92%. Proposed use: For manufacturing use. Contact: BPPD.

Authority: 7 U.S.C. 136 et seq.

Dated: November 14, 2017.
Hamaad A. Syed,
Acting Director, Information Technology and Resources Management Division, Office of Pesticide Programs.

[FR Doc. 2017-27810 Filed 12-22-17; 8:45 am]

BILLING CODE 6560-50-P